DEPARTMENT OF HOMELAND SECURITY

Coast Guard

33 CFR Part 100

[Docket Number USCG-2025-0323]

RIN 1625-AA08

Special Local Regulation; Oak Harbor, WA

AGENCY: Coast Guard, DHS.

ACTION: Notice of proposed rulemaking.

SUMMARY: The Coast Guard is proposing to establish a special local regulation for navigable waters within Oak Harbor Bay, Oak Harbor, WA. The regulated area shall be closed immediately prior to, during and immediately after the annual event to all persons and vessels not participating in the event and authorized by the event sponsor. Due to the potential safety hazards associated with hydroplane races, entry of vessels or persons into this zone is prohibited unless specifically authorized by the Captain of the Port Puget Sound (COTP) or designated representative. We invite your comments on this proposed rulemaking.

DATES: Comments and related material must be received by the Coast Guard on or before July 17, 2025.

ADDRESSES: You may submit comments identified by docket number USCG-2025-0323 using the Federal Decision-Making Portal at https://www.regulations.gov. See the “Public Participation and Request for Comments” portion of the SUPPLEMENTARY INFORMATION section for further instructions on submitting comments. This notice of proposed rulemaking with its plain-language, 100-word-or-less proposed rule summary will be available in this same docket.

FOR FURTHER INFORMATION CONTACT: If you have questions about this proposed rulemaking, call or email Lieutenant Anthony Pinto, Sector Puget Sound Waterways Management Division, Coast Guard; telephone 206-217-6051, email SectorPugetSoundWWM@uscg.mil.

SUPPLEMENTARY INFORMATION:

I. Table of Abbreviations

COTP Captain of the Port

CFR Code of Federal Regulations

DHS Department of Homeland Security

FR Federal Register

LNM Local Notice to Mariners

NPRM Notice of proposed rulemaking

§ Section

U.S.C. United States Code

II. Background, Purpose, and Legal Basis

The Coast Guard is proposing this rulemaking for hydroplane races held annually in Oak Harbor Bay, Oak Harbor, WA. The event will be held this year on August 16, 2025 and August 17, 2025. Under 46 U.S.C. 70041, the Coast Guard Thirteenth District Commander has authority to promulgate certain special local regulations deemed necessary to ensure the safety of life on the navigable waters immediately before, during, and immediately after an approved regatta or marine parade. The District Commander has determined these regulations are needed on the navigable waters within this special local regulation during the hydroplane races to ensure the safety of the public, official participants, and spectator vessels near the race area.

III. Discussion of Proposed Rule

This rule would establish a regulated area from 10 a.m. through 7 p.m. each day of the event. The regulated area would cover all navigable waters within Oak Harbor Bay starting at position 48.2868946, −122.6466818 thence eastward to 48.2869390, −122.6466245, thence south to 48.2814501, −122.6359595, thence westward to 48.2811168, −122.6454318 and returning to the starting point. The duration of the special local regulation is intended to protect personnel, vessels, and the marine environment in these navigable waters while the marine event is taking place. No vessel or person would be permitted to enter the regulated area without obtaining permission from the COTP or designated representative. To seek permission to enter, contact the COTP or designated representative by calling the Sector Command Center at 206-217-6002 or via VHF Marine Radio on Channel 16. Those in the regulated area must comply with all lawful orders or directions given to them by the COTP or designated representative. The COTP would provide notice of the enforcement of this special local regulation by Notice of Enforcement in the Federal Register. Additional information of the special local regulation would be made available through advanced notice via the LNM and by on-scene designated representatives. Except for persons or vessel authorized by the COTP or designated representative, no vessel may enter or remain in the restricted area. The regulatory text we are proposing appears at the end of this document.

IV. Regulatory Analyses

We developed this proposed rule after considering numerous statutes and Executive orders related to rulemaking. Below we summarize our analyses based on a number of these statutes and Executive orders.

A. Regulatory Planning and Review

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility.

The Office of Management and Budget (OMB) has not designated this rule a “significant regulatory action” under section 3(f) of Executive Order 12866. Accordingly, OMB has not reviewed it.

This regulatory action determination is based on a limited duration and narrowly tailored geographic area of the restricted area. Although this rule restricts access to the water of the encompassed area, the effect of this rule would not be significant because the local waterway users would be notified to minimize impact. Additionally, vessels desiring to transit through or around the restricted area could do so upon expressed permission from the COTP or designated representative.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the regulated area may be small entities, for the reasons stated in section IV.A above, this proposed rule would not have a significant economic impact on any vessel owner or operator.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves a special local regulation of limited size and duration which would be in active use by event participants during the two-day, 9 hour enforcement period. Normally such actions are categorically excluded from further review under paragraph L61 of Appendix A, Table 1 of DHS Instruction Manual 023-01-001-01, Rev. 1. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2025-0323 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you click on the Dockets tab and then the proposed rule, you should see a “Subscribe” option for email alerts. The option will notify you when comments are posted, or a final rule is published.

We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 100

Harbors, Marine safety, Navigation (water), Reporting and recordkeeping requirements, Security measures, Waterways.

For the reasons discussed in the preamble, the Coast Guard is proposing to amend 33 CFR part 100 as follows:

PART 100—SAFETY OF LIFE ON NAVIGABLE WATERS

1. The authority citation for part 100 continues to read as follows:

Authority: 46 U.S.C. 70041; 33 CFR 1.05-1.

2. Add § 100.1312 to read as follows:

§ 100.1312 Special Local Regulation; Oak Harbor Bay, Oak Harbor, WA.

(a) Regulated area. The regulations in this section apply to the following area: All navigable waters within Oak Harbor Bay starting at position 48.2868946, −122.6466818 thence eastward to 48.2869390, −122.6466245, thence south to 48.2814501, −122.6359595, thence westward to 48.2811168, −122.6454318 and returning to the starting point. These coordinates are based on World Geodetic System 84 (WGS84).

(b) Definitions. As used in this section—

Designated representative means a Coast Guard Patrol Commander, including a Coast Guard coxswain, petty officer, or other officer operating a Coast Guard vessel and a Federal, State, and local officer designated by or assisting the Captain of the Port Puget Sound (COTP) in the enforcement of the regulations in this section.

Participant means all persons and vessels registered with the event sponsor as participants in the race.

Spectator means all persons and vessels in the vicinity of the marine event with the primary purpose of witnessing the marine event.

(c) Regulations. (1) All non-participants are prohibited from entering, transiting through, anchoring in, or remaining within the regulated area described in paragraph (a) of this section unless authorized by the COTP or designated representative.

(2) To seek permission to enter, contact the COTP or designated representative by calling the Sector Puget Sound Command Center at 206-217-6002 or via VHF Marine Radio on Channel 16. Those in the regulated area must comply with all lawful orders or directions given to them by the COTP or designated representative.

(3) The COTP will provide notice of the regulated area through advanced notice via announcement in the local notice to mariners, broadcast notice to mariners, and by on-scene designated representatives.

(d) Notice of enforcement dates. This Special Local Regulation will be enforced during times announced by the Captain of the Port. The Captain of the Port will provide notice of the enforcement of this special local regulation by Notice of Enforcement in the Federal Register. Additional information may be available through Broadcast Notice to Mariners and Local Notice to Mariners.

Dated: June 2, 2025.
C.E. Fosse,
Rear Admiral, U.S. Coast Guard, Commander, Thirteenth Coast Guard District.

[FR Doc. 2025-11116 Filed 6-16-25; 8:45 am]

BILLING CODE 9110-04-P